DEPARTMENT OF TRANSPORTATION

Federal Aviation Administration

14 CFR Part 39

[Docket No. FAA-2005-22411; Directorate Identifier 2005-NM-074-AD]

RIN 2120-AA64

Airworthiness Directives; Airbus Model A300 B2 Series Airplanes; Model A300 B4 Series Airplanes; Model A300 B4-600 Series Airplanes; Model A300 B4-600R Series Airplanes; Model F4 600R Series Airplanes; Model A300 C4-605R Variant F Airplanes; and Model A310-200 Series Airplanes; and Model A310-300 Series Airplanes

AGENCY: Federal Aviation Administration (FAA), Department of Transportation (DOT).

ACTION: Notice of proposed rulemaking (NPRM).

SUMMARY: The FAA proposes to adopt a new airworthiness directive (AD) for certain Airbus transport category airplanes. This proposed AD would require replacing the existing cabin altitude indicator in the cabin pressure control panel with a new, improved cabin altitude indicator. This proposed AD is prompted by a report of injuries occurring on in-service airplanes when crewmembers forcibly initiated opening of passenger/crew doors against residual pressure causing the doors to rapidly open. We are proposing this AD to prevent injury to crewmembers, and subsequent damage to the airplane caused by rapid opening of the door.

DATES: We must receive comments on this proposed AD by October 14, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-22411; the directorate identifier for this docket is 2005-NM-074-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-22411; Directorate Identifier 2005-NM-074-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

The DGAC, which is the airworthiness authority for France, notified us that an unsafe condition may exist on certain Airbus Model A300 B2 series airplanes and A300 B4 series airplanes; Model A300 B4-600, B4-600R, and F4-600R series airplanes, and Model C4 605R Variant F airplanes (collectively called A300-600); and Model A310 series airplanes. The DGAC advises that the existing cabin altitude pressure indicator can give a false indication of the cabin altitude especially when the pressurization system is operated in manual mode. Accidents have occurred on in-service airplanes when crewmembers forcibly initiated opening of passenger/crew doors against residual pressure (a positive pressure difference between inside the cabin and outside the cabin) causing the doors to rapidly open. In these accidents, the existing pressurization system did not indicate the presence of residual pressure in the cabin.

Relevant Service Information

Airbus has issued Service Bulletins A300-21-0131, Revision 01, dated January 6, 2005; A300-21-6050, Revision 01, dated December 17, 2004; and A310-21-2063, Revision 01, dated January 6, 2005. The service bulletins describe procedures for replacing the existing cabin altitude indicator in the cabin pressure control panel with a new improved cabin altitude indicator. The new cabin altitude indicator introduces a stop in the needle driving mechanism to limit the needle position near 5,000 feet in case of extreme low altitude. (A stop already exists for the “overhigh” altitude.) The new cabin altitude indicator is designed to prevent false interpretation of the needle position when altitude goes out of the normal range. Accomplishing the actions specified in the service information is intended to adequately address the unsafe condition. The DGAC mandated the service information and issued French airworthiness directive F-2005-027, dated February 16, 2005, to ensure the continued airworthiness of these airplanes in France.

All three service bulletins described above reference Thales Service Bulletin 37000-3-21-001, dated October 8, 2004, as an additional source of service information for replacing the cabin altitude indicator.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously.

Costs of Compliance

This proposed AD would affect about 194 airplanes of U.S. registry. The proposed actions would take about 7 work hours per airplane, at an average labor rate of $65 per work hour. Required parts would cost about $1,246 per airplane. Based on these figures, the estimated cost of the proposed AD for U.S. operators is $329,994, or $1,701 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-22411; Directorate Identifier 2005-NM-074-AD.

Comments Due Date

(a) The Federal Aviation Administration must receive comments on this AD action by October 14, 2005.

Affected ADs

(b) None.

Applicability

(c) This AD applies to Airbus Model A300 B2-1A, B2-1C, B2K-3C, and B2-203 airplanes; Model A300 B4-2C, B4-103, and B4-203 airplanes; Model A300 B4-601, B4-603, B4-620, and B4-622 airplanes; Model A300 B4-605R and B4-622 airplanes; Model A300 F4-605R and F4-622R airplanes; Model A300 C4-605R Variant F airplanes; Model A310-203, -204, -221, and -222 airplanes; and Model A310-304, -322, -324, and -325 airplanes; certificated in any category; except for those airplanes on which Airbus Modification 12857 has been incorporated in production.

Unsafe Condition

(d) This AD was prompted by a report of injuries occurring on in-service airplanes when crewmembers forcibly initiated opening of passenger/crew doors against residual pressure causing the doors to rapidly open. We are issuing this AD to prevent injury to crewmembers, and subsequent damage to the airplane caused by the rapid opening of the door.

Compliance

(e) You are responsible for having the actions required by this AD performed within the compliance times specified, unless the actions have already been done.

Replacing the Cabin Altitude Indicator

(f) Within 22 months after the effective date of this AD, replace the cabin altitude indicator (Part Number (P/N) 37000-3) in the cabin pressure control panel with a new improved cabin altitude indicator (P/N 37000-3-01), in accordance with the service bulletins specified in Table 1 of this AD, as applicable.

Table 1.—Airbus Service Bulletins
Model | Service bulletin and revision number | Date
Model A300 B2 and A300 B4 series airplanes | A300-21-0131, Revision 01 | January 6, 2005.
Model A300 B4-600, B4-600R and F4-600R series airplanes, and Model C4-605R Variant F airplanes | A300-21-6050, Revision 01 | December 17, 2004.
Model A310-200 and -300 series airplanes | A310-21-2063, Revision 01 | January 6, 2005.

Note 1: The service bulletins specified in Table 1 of paragraph (f) of this AD describe installation of an in-service modification equivalent to production modification 12857.

Additional Source of Service Information

Note 2: Each of the service bulletins specified in paragraph (f) of this AD refers to Thales Service Bulletin 37000-3-21-001, dated October 8, 2004, as an additional source of service information.

Actions Accomplished in Accordance With Previous Service Information

(g) Replacement of the cabin altitude indicator with a new, improved indicator, in accordance with Airbus Service Bulletin A300-21-6050, dated September 9, 2004; or A310-21-2063, dated September 9, 2004; as applicable, before the effective date of this AD, is acceptable for the compliance with the requirements of paragraph (f) of this AD.

Parts Installation

(h) After the effective date of this AD, no person may install a Thales cabin altitude indicator having part number 37000-3 on any airplane.

Alternative Methods of Compliance (AMOCs)

(i) The Manager, International Branch, ANM-116, FAA, Transport Airplane Directorate, has the authority to approve AMOCs for this AD, if requested in accordance with the procedures found in 14 CFR 39.19.

Related Information

(j) French airworthiness directive F-2005-027, dated February 16, 2005, also addresses the subject of this AD.

Issued in Renton, Washington, on September 6, 2005.
Kalene C. Yanamura,
Acting Manager, Transport Airplane Directorate, Aircraft Certification Service.

[FR Doc. 05-18211 Filed 9-13-05; 8:45 am]

BILLING CODE 4910-13-P